DEPARTMENT OF THE INTEROR

Bureau of Land Management

[WY-030-5101-ER-K103; WYW-167155]

Notice of Intent To Announce a Proposed Environmental Impact Statement (EIS) for the Chokecherry and Sierra Madre Wind Energy Project, Announce a Proposed EIS To Amend Rawlins Resource Management Plan, and Announce a Public Comment Period and Public Meetings for Obtaining Comments

AGENCY: Bureau of Land Management.

ACTION: Notice of Intent (NOI) to (1) announce a proposed Environmental Impact Statement (EIS) for the Chokecherry and Sierra Madre Wind Energy Project; (2) announce a proposed EIS to amend Rawlins Resource Management Plan; and (3) announce a public comment period and public meetings for obtaining comments.

SUMMARY: Pursuant to Section 102(2)(C) of the National Environmental Policy Act (NEPA) of 1969, an EIS will be prepared by the Bureau of Land Management (BLM), Rawlins Field Office, Wyoming, for the Chokecherry and Sierra Madre Wind Energy Project in Carbon County, Wyoming. The EIS will analyze the impacts of issuing rights-of-way for a wind energy project and ancillary facilities (consisting of access roads, electric power gathering cables, an electric transmission line, and electric substations).

DATES: Public meetings will be held to inform the public and obtain comments. Dates, times, and locations of meetings will be announced at least 15 days in advance through local media, news releases, and posting to the BLM Web site. The public comment period will close 45 days after publication in the Federal Register. The BLM Field Manager, Rawlins Field Office, 1300 N. Third Street, Rawlins, Wyoming 82301 will receive comments submitted via mail or overnight delivery from the general public and interested parties. Facsimiles, telephone calls, or electronic mail via the Internet will not be considered as validly submitted comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Heather Nino, Realty Specialist, Bureau of Land Management, Rawlins Field Office, 1300 North Third Street, Rawlins, WY 82301 or Heather_Nino@blm.gov, or Jerry Crockford at cellular telephone (505) 360-0473.

SUPPLEMENTARY INFORMATION: The EIS will address the proposed action and a range of reasonable alternatives including a no action alternative.

The proposed action can be summarized as: construction, operation and maintenance of a nominal 2,000 megawatt (MW) wind energy project and ancillary facilities. The wind energy project area comprises approximately 98,500 acres located within Townships 19 and 20 North, Ranges 85 through 87 West for the Chokecherry area, and Townships 16 through 18 North, Ranges 87 through 89 West for the Sierra Madre area. The project occurs in a “checker board” land ownership pattern area with approximately half of the land being BLM public land, and approximately half being private and State of Wyoming ownership.

The proposed 2,000 MWs will be provided by approximately 675 2-MW turbines to be constructed in the Chokecherry area portion of the project, and approximately 325 2-MW turbines to be constructed in the Sierra Madre portion of the project area. Other associated facilities required by the project will include access roads, underground electric gathering lines, an overhead electric transmission line, and electric substations to interconnect the generated power to the electric grid. The project will utilize existing roads.

The project will require approximately three to five years for construction, with an in-service target date of late-2012. The project will operate continuously, except for maintenance shutdowns on individual wind turbine generators, with a projected 30-year life. Power would interconnect with the national electric grid.

Under the No Action Alternative, BLM would not issue right-of-way grants for the Chokecherry and Sierra Madre Wind Energy Project and ancillary facilities. The project including the wind generating turbines, access roads, gathering cables, substations, and transmission line would not be constructed. The areas proposed for the Chokecherry and Sierra Madre Wind Energy Project and ancillary facilities would remain undeveloped. An energy need would not be met by the proposed generated power.

Public participation is encouraged throughout the processing of this project. Comments presented throughout the process will be considered.

Dated: July 9, 2008.
Patrick Madigan,
Field Manager, Rawlins Field Office, Wyoming.

[FR Doc. E8-17071 Filed 7-24-08; 8:45 am]

BILLING CODE 4310-22-P